DEPARTMENT OF DEFENSE

Office of the Secretary

[Docket ID DoD-2022-HA-0019]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 12, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Terry McDavid, 703-681-3645.

SUPPLEMENTARY INFORMATION: Title; Associated Form; and OMB Number: Statement of Personal Injury: Possible Third Party Liability; DD Form 2527; OMB Control Number 0720-0003.

Needs and Uses: When a claim for TRICARE benefits is identified as involving possible third party liability and the information is not submitted with the claim, the TRICARE contractors request that the injured party (or a designee) complete DD Form 2527. To protect the interests of the U.S. Government, the contractor suspends claims processing until the requested third party liability information is received. The contractor conducts a preliminary evaluation based upon the collection of information and refers the case to a designated appropriate legal officer of the Uniformed Services. The responsible Uniformed Services legal officer uses the information as a basis for asserting and settling the U.S. Government's claim. When appropriate, the information is forwarded to the Department of Justice as the basis for litigation.

Affected Public: Individuals or households.

Annual Burden Hours: 47,022.5.

Number of Respondents: 188,090.

Responses per Respondent: 1.

Annual Responses: 188,090.

Average Burden per Response: 15 minutes.

Frequency: On occasion.

Dated: February 7, 2022.
Aaron T. Siegel,
Alternate OSD Federal Register Liaison Officer, Department of Defense.

[FR Doc. 2022-03003 Filed 2-10-22; 8:45 am]

BILLING CODE 5001-06-P